DEPARTMENT OF TRANSPORTATION

Federal Aviation Administration

Operating Limitations at Newark Liberty International Airport, Interim Order Establishing Targeted Scheduling Limits

AGENCY: Federal Aviation Administration (FAA), Department of Transportation.

ACTION: Interim order establishing targeted scheduling limits at Newark Liberty International Airport.

I. Introduction

This interim Order establishes a temporary reduced targeted scheduling limit on the number of scheduled operations at Newark Liberty International Airport (EWR) reflected in authorized scheduled timings. The Acting Administrator of the Federal Aviation Administration (FAA) is issuing this Order as a result of a persistent number of flights above capacity at EWR. This Order is intended to relieve the substantial inconvenience to the traveling public caused by excessive flight delays at the airport due to construction, staffing challenges, and recent equipment issues, which magnify as they spread through the National Airspace System. This Order aims to provide a more efficient use of the nation's airspace and alleviate temporary conditions exacerbating delays at EWR. This Order takes effect on May 20, 2025, and will expire upon the implementation of a final order.

II. Background

The U.S. Government has exclusive sovereignty over the airspace of the United States.¹ Under this broad authority, Congress has delegated to the Administrator extensive and plenary authority to ensure the safety of aircraft and the efficient use of the nation's navigable airspace. In this regard, the Administrator is required to assign the use of navigable airspace by regulation or order under such terms, conditions and limitations as he may deem necessary to ensure its efficient use.² The Administrator may modify or revoke an assignment when required in the public interest.³ Furthermore, in carrying out the Administrator's safety responsibilities under the statute, the Administrator must consider controlling the use of the navigable airspace and regulating civil operations in that airspace in the interest of the safety and efficiency of those operations.⁴

¹ 49 U.S.C. 40103.

² 49 U.S.C. 40103(b)(1), as previously codified in 49 U.S.C. App. § 307(a). Title 49 was recodified by Public Law 103-222, 108 Stat. 745 (1994). The textual revisions were not intended to result in substantive changes to the law. The recodification stated that the words in § 307(a) “under such terms, conditions, and limitations as he may deem” were omitted as surplus. H. Rpt. 103-180 (103d Cong., 1st Sess. 1993) at 262.

³ Id.

⁴ 49 U.S.C. 40101(d)(4).

The FAA's statutory authority to manage “the efficient use of airspace” encompasses its management of the nationwide system of air commerce and air traffic control. Ensuring the efficient use of the airspace means that FAA must take all necessary steps to prevent extreme congestion at an airport from disrupting or adversely affecting the overall air traffic system for which FAA is responsible. Further, delays at EWR frustrate the efficient operations of air carriers transporting passengers to and from this important region. The impacts of delays at EWR spread throughout the NAS, resulting in substantial economic loss for the traveling public, air carriers, shippers, and others.

EWR Level 2 Designation

On April 6, 2016, FAA designated EWR as a Level 2 schedule-facilitated airport under the International Air Transportation Association (IATA) Worldwide Slot Guidelines (WSG), effective October 30, 2016.⁵

⁵ 81 FR 19861 (April 6, 2016).

The FAA does not allocate slots, apply historic precedence, or impose minimum usage requirements at EWR. Level 2 schedule facilitation depends upon close and continuous discussions and voluntary agreement between airlines and FAA to reduce congestion. At Level 2 airports, FAA provides priority consideration for flights approved by FAA and operated by the carrier in those approved times in the prior scheduling season when FAA reviews proposed flights for facilitation in the next corresponding scheduling season. Only those flights that were actually operated as approved in the prior scheduling season generally receive priority for the next corresponding scheduling season. However, FAA notes that the usual Level 2 processes include flexibility for the facilitator to prioritize planned flights that are canceled in advance or on the day of the scheduled operation due to operational impacts beyond the control of the carrier.

Although FAA redesignated EWR from a Level 3 to Level 2 airport in 2016, FAA has continuously monitored the airport's performance due to its prominence in the NAS and impact on the system overall. As such, EWR implemented targeted scheduling limits in an effort to minimize delay and congestion. The current baseline targeted scheduling limit for EWR is 77 operations per hour.⁶ The FAA has implemented a number of mitigations to address delays at the airport due to staffing challenges and runway construction.

⁶ 89 FR 43501 (May 17, 2024).

Staffing-Related Relief at EWR

On March 27, 2023, FAA announced a limited policy for prioritizing up to ten percent of a carrier's returned operations at EWR, due to post-pandemic effects on ATC staffing at New York Terminal Radar Approach Control (TRACON)(N90), for purposes of establishing a carrier's operational baseline in the next corresponding season.⁷ The FAA determined that the interdependency and complexity of the airspace, number of flights into the New York City region, and N90 staffing shortfalls met the applicable waiver standard for the N90's Level 3 airports and justified an offer of relief for carriers at EWR. The FAA extended this relief through the close of the Summer 2025 Scheduling Season.⁸ This relief is part of a continuous effort, in partnership with air carriers, to manage traffic at EWR safely and efficiently while staffing levels improve.

⁷ 88 FR 18032 (March 27, 2023).

⁸ 90 FR 12931 (March 19, 2024).

EWR Construction

On November 20, 2024, FAA announced a limited, conditional policy for prioritizing returned operations at EWR due to a construction-related runway closure at EWR for purposes of establishing a carrier's operational baseline in the next corresponding scheduling seasons.⁹ Runway 4L-22R has been and remains closed daily from April 15, 2025, through June 15, 2025. Weekend closures of Runway 4L-22R were scheduled from March 1, 2025, to April 14, 2025, and will resume September 1, 2025, to December 31, 2025, from Friday at 11:00 p.m. through 5:00 a.m. on Sunday, Eastern Time.

⁹ 89 FR 91544 (November 20, 2024).

The FAA worked with carriers to address the impact this runway closure has on scheduled operations for the Summer 2025 and Winter 2025/2026 scheduling seasons. The FAA requested that carriers reduce operations from April 15, 2025, through June 15, 2205, to no more than 35 arrivals per hour from 6:00 a.m. to 2:00 p.m., Eastern Time and no more than 31 arrivals per hour from 3:00 p.m. to the end of the day, Eastern Time. The FAA also requested that carriers reduce operations to no more than 35 departures per hour through 4:00 p.m., Eastern Time, and no more than 31 departures per hour from 5:00 p.m. through the end of the day, Eastern Time. The FAA stated that no new requested timings would be approved during the runway closure period.

Air Traffic Controller Staffing Status

Since July of 2024, Philadelphia TRACON (PHL) has been the TRACON facility responsible for overseeing the Newark area. PHL's targeted staffing number is 114 Certified Professional Controllers (CPCs); the current onboard number at PHL is 82, representing 71.9% staffed. Area C, overseeing the Newark area, has a targeted staffing number of 38 CPCs, with its current staff of 24 CPCs representing 63% staffed. Under an arrangement by the previous administration, by the end of July 2026, 16 CPCs currently assigned to Area C will return to N90, which previously oversaw the Newark area. Actions are currently underway to train CPCs for Area C and to replace those 16 CPCs. PHL currently has 26 trainees, and many of these have previous experience at higher level facilities and are expected to certify in less time than typical. This pipeline of personnel will allow FAA to build up CPC staffing for Area C.

Equipment Outages

EWR recently experienced technology issues at PHL which guides aircraft in and out of the airport.¹⁰ The FAA is taking steps to immediately shore up the reliability of equipment and operations at EWR in light of these outages. However, these outages lead to disruptions in operations causing delays and impact CPCs serving the airport.

¹⁰ Update: Newark Liberty International Airport, FAA General Statements (May 7, 2025). FAA General Statements | Federal Aviation Administration

III. Decision To Convene a Delay Reduction Meeting

The convergence of underlying staffing challenges, PHL equipment issues caused by an antiquated air traffic control system, and runway closures due to construction has resulted in the current operational levels at EWR becoming untenable.

Congress authorized the Secretary of Transportation to ask U.S. air carriers to meet with the FAA to discuss flight reductions at severely congested airports to reduce overscheduling and flight delays during peak operating hours.¹¹ Under this authority, the Secretary and Acting Administrator of the FAA determined that such a meeting was necessary to address delays and congestion at EWR.

¹¹ 49 U.S.C. 41722(a).

Through a notice issued on May 14, 2025, and published in the Federal Register, FAA invited U.S. air carriers with scheduled operations at EWR and the Port Authority of New York and New Jersey (PANYNJ) to attend the scheduling reduction meeting commencing on May 14, 2025.¹² The FAA invited all other interested parties and persons to submit information on the subject of operations at EWR to a public docket for FAA's consideration in issuing this Order.

¹² 90 FR 20545 (May 14, 2025).

IV. Determination of Operational Targets

The statute authorizing the Administrator to conduct a scheduling reduction meeting requires FAA to establish operational targets for the efficient scheduling of the airport.¹³ The FAA announced the proposed operational targets in the Notice of the Delay Reduction Meeting and invite to carriers. The FAA reviewed the current delay and cancellation rates at EWR against the approved schedules during the construction period and for the remainder of Summer 2025 Scheduling Season. As previously stated in the Notice of the Delay Reduction Meeting announcing the scheduling reduction meeting, since April 15, 2025, cancellations at EWR are occurring at a rate of one to four per hour, with an increase in the afternoon and evening, averaging about 34 arrival cancellations per day.¹⁴ The number of delayed arrivals is consistently high, beginning with an average of five in the 7:00 a.m. hour and increasing throughout the day to an average of 16 between 7:00 p.m. and 11:00 p.m., Eastern Time. The average delay duration is 85 minutes at 7:00 a.m. and increases to 137 minutes at 5:00 p.m., Eastern Time. This rate declines, but holds, at about 100 minutes per flight at the end of the day. Overall, the data shows variability in scheduled versus actual arrivals, with a corresponding increased level of delayed arrivals across the hours of the day.

¹³ 49 U.S.C. 41722(c).

¹⁴ 90 FR 20545, 20546 (May 14, 2025).

Based on FAA's analysis of the data, FAA proposed an hourly arrival rate of no more than 28 operations, with a corresponding hourly departure rate of 28 operations, resulting in no more than 56 total operations per hour during the remainder of the construction period.¹⁵ The construction period is defined as the daily closure of Runway 4L/22R until June 15, 2025, and weekends from September 1, 2025, through December 31, 2025, from Friday at 11:00 p.m. through 5:00 a.m. on Sunday, Eastern Time. Outside of the construction period, through the end of Summer 2025 scheduling season ending on October 25, 2025, FAA proposed a targeted scheduling rate of 34 arrivals per hour, with a corresponding departure rate of 34 operations, resulting in no more than 68 total operations per hour. The FAA determines that this operational target would reduce overscheduling, flight delays, and cancellations to an acceptable level at EWR and ensure the efficient use of the NAS. These operational targeted scheduling limits for this period will take place between 6:00 a.m. and 10:59 p.m., Eastern Time.

¹⁵ Foreign carrier operations are factored into each reduced targeted scheduling limit.

V. Meetings With the U.S. Air Carriers

The FAA convened the scheduling reduction meeting with the U.S. air carrier participants and representatives from the PANYNJ on May 14, 2025, and the meetings continued until its recess on May 16, 2025. The FAA had separate meeting sessions over the three days with seven air carriers and the PANYNJ. In these meetings, FAA and carriers discussed voluntary modifications to schedules during the construction period and through the rest of the Summer 2025 Scheduling Season. Representatives of the Department of Justice's Antitrust Division and the Department of Transportation monitored the joint and individual meeting sessions of the scheduling reduction meeting. In addition, the in-person sessions were transcribed.¹⁶

¹⁶ The FAA has not yet formally adjourned the meeting. In the event that further meeting sessions are required, the meeting is in recess status prior to the issuance of final order to provide parties the opportunity to make additional voluntary schedule reductions and modifications.

The FAA stated that immediate action is required to address the situation at EWR. Since the daily runway closures conclude on June 15, 2025, and this schedule reduction meeting occurred during the Summer 2025 Scheduling Season, there is a limited window to implement schedule modifications. The FAA commends the carriers, especially United Airlines, Spirit Airlines, Allegiant Airlines, Alaska Airlines, and American Airlines, that made substantial schedule adjustments to accommodate the reduced rate during the construction period prior to the meetings.

The discussions were productive and, by the time of the meeting recess, participating carriers contributed a level of reduction almost at the proposed targets. On Friday, May 16, 2025, the FAA stated that further discussions with participating carriers will be necessary to finalize the reductions and re-timings proposed and agreed upon in the individual sessions.

On Monday, May 19, 2025, FAA determined that additional reductions were necessary for specific hours and subsequently advised those carriers affected by further reductions. The FAA has confirmed with each carrier their remaining operations following these reductions. These confirmed operations are designated authorized scheduled timings for EWR for the purposes of this interim order.

U.S. and foreign air carriers, the PANYNJ, and other interested parties were also invited by the May 14, 2025, Federal Register notice to provide whatever information and opinion they deemed relevant to FAA's ultimate decision. The Notice stated that FAA will work with foreign carriers using the IATA guidelines to address any voluntary reductions foreign carriers would like to propose during this period. All U.S. and foreign carriers are invited to contact the Slot Administration Office with any additional proposed reductions or schedule modifications that would contribute to the overall effort to reduce operations at EWR. The FAA will take any additional proposed reductions or modifications into consideration before issuing a final Order in this matter.

VI. Revised Hourly Targeted Schedule Limitations

As established in the Notice and in sessions with carriers during the delay reduction meetings, the hourly targeted schedule limitations are reduced below current levels at two different rates depending on if the operation falls during or outside the construction periods.

Every day until June 15, 2025, and on weekends from September 1, 2025, through December 31, 2025, from Friday at 11:00 p.m. through 5:00 a.m. on Sunday, Eastern Time, the targeted limit is no more than 28 arrivals and 28 departures per hour. Outside of the construction period, until the close of the Summer 2025 Scheduling Season, October 25, 2025, the limit is no more than 34 arrivals and departures per hour. The FAA will continue to work with carriers to smooth their schedules and to adjust the timing of arriving and departing flights so as not to overwhelm a particular hour in the event of delays or other operational issues.

VII. Foreign Air Carriers

Prior to the issuance of a final Order, the FAA Slot Administration Office asks that foreign carriers assess their operations at EWR and propose any voluntary schedule reductions or modifications that may alleviate congestion at EWR. The FAA will work with foreign carriers to maintain historic prioritization for any previously approved timings for the purposes of establishing an operational baseline for the next corresponding season.

VIII. Unscheduled Operations and New Scheduled Operations

The FAA will not accommodate new unscheduled or scheduled operations through the construction period or remainder of the Summer 2025 Scheduling Season at EWR. New operations during this time period could exacerbate the existing conditions and undo the purpose of the scheduling reduction meetings, which is to achieve operational stability at EWR.

IX. Operational Flexibility

Based on FAA's experience with capacity-constrained airports, FAA anticipates that carriers may occasionally need to modify their schedule times for operational or other reasons while this Order is in effect. Accordingly, this Order provides a mechanism through which such carriers can modify their schedules.

Carriers operating at EWR must obtain the Administrator's written approval before making a schedule change that would be outside the hourly window associated with an authorized timing.

The FAA recognizes that the Winter 2025/2026 schedule submission date was May 15, 2025. The FAA will work with carriers to accommodate schedules proposed for Saturdays in the construction period in the Winter 2025/2026 Scheduling Season.

The FAA recognizes that there may be unexpected times when a carrier's operations are greatly disrupted due to operation issues, weather, or other circumstances beyond the carrier's control. Since EWR is a Level 2 airport, FAA will work the carrier on any additional relief needed to prioritize impacted operations for the purposes of establishing operational baselines for the next corresponding season.

Accordingly, with respect to scheduled flight operations at EWR, under the authority provided to the Secretary of Transportation and the FAA Administrator by 49 U.S.C. 40101, 40103, 40113, and 41722, it is hereby ordered that:

1. This Order modifies the targeted scheduling limit for arrivals and departures at EWR during the affected hours for the U.S. air carriers who operate at EWR as reflected by scheduled authorized timings. The FAA will not accommodate authorized scheduled timings under this Order to any person or entity other than a certificated U.S. air carrier with appropriate economic authority and FAA operating authority under 14 CFR part 121, 129, or 135. This Order further affirms that FAA will not accommodate new requests or re-timings by other domestic or foreign carriers during the period this Order is effective. Under this interim Order, carriers may submit additional voluntary returns to be included in the final order. The FAA Vice President, System Operations Services, is the final decision-maker for determinations under this paragraph. This Order applies to the following:

a. All U.S. air carriers conducting scheduled operations at EWR as of the date of this Order, any U.S. air carrier that operates under the same designator code as such carrier, and any air carrier that has or enters into a codeshare agreement with such carrier.

b. All U.S. air carriers operating scheduled or regularly conducted commercial service to EWR while this Order is in effect.

2. This Order modifies targeted scheduled arrivals and departures at EWR from 6 a.m. through 10:59 p.m., Eastern Time, until October 25, 2025, and weekends from September 1, 2025, through December 31, 2025, from Friday at 11:00 p.m. through 5:00 a.m. on Sunday.

3. This Order takes effect on May 20, 2025 and expires upon the issuance of a final order consistent with these proceedings to allow for continued dialogue between air carriers and FAA to finalize schedule reductions and modifications.

4. The following procedures apply to authorized scheduled timings at EWR:

a. Scheduled air carrier arrivals and departures should not exceed 28 per hour, respectively, from 6 a.m. through 10:59 p.m., Eastern Time until June 15, 2025, and weekends from September 1, 2025, through December 31, 2025, from Friday at 11:00 p.m. through 5:00 a.m. on Sunday, Eastern Time. From June 16, 2025, through October 25, 2025, arrivals and departures should not exceed 34 per hour, respectively, aside from the Saturdays designated as part of the construction period when the lower targeted rate applies.

b. The Administrator may change the targeted limits if he determines that capacity exists to accommodate additional operations without a significant increase in delays.

5. A carrier operating an authorized scheduled timing may request the Administrator's approval to move any arrival or departure scheduled from 6 a.m. through 10:59 p.m. to another half hour within that period. Except as provided in paragraph seven, the carrier must receive the written approval of the Administrator, or his delegate, prior to conducting any scheduled arrival or departure. All requests to move an authorized scheduled timing must be submitted to the FAA Slot Administration Office, telephone (202) 267-2822 or email 7-AWA-Slotadmin@faa.gov, and must come from a designated representative of the carrier.

6. Notice of a swap under this paragraph must be submitted in writing to the FAA Slot Administration Office, telephone (202) 267-2822 or email 7-AWA-Slotadmin@faa.gov, and must come from a designated representative of each carrier. The FAA must confirm and approve these exchanges in writing prior to the effective date of the exchange. The FAA will approve swaps between carriers under the same marketing control up to 72-hours after the actual operation, but only to accommodate operational disruptions that occur on the same day of the scheduled operation.

7. Any authorized scheduled timing not used during the remainder of the Summer 2025 Scheduling Season or applicable dates in the Winter 2025/2026 period will not be prioritized for the purposes of establishing an operational baseline for the next corresponding season unless the carrier notifies the FAA of a request for prioritization. The FAA and DOT review such requests, and FAA will respond to the carrier with an acknowledgement of relief.

8. If FAA determines that a further reduction in targeted scheduled operations is needed, the FAA may call an additional scheduling reduction meeting pursuant to 49 U.S.C. 41722.

9. The FAA will enforce this Order through an enforcement action seeking a civil penalty under 49 U.S.C. 46301(a). A carrier that is not a small business as defined in the Small Business Act, 15 U.S.C. 632, will be liable for a civil penalty of up to $75,000 for every flight it operates above the limits set forth in this Order. A carrier that is a small business as defined in the Small Business Act will be liable for a civil penalty of up to $16,630 for every flight it operates above the limits set forth in this Order. The FAA also could file a civil action in U.S. District Court, under 49 U.S.C. 46106, 46107, seeking to enjoin any air carrier from violating the terms of this Order.

10. The FAA may modify or withdraw any provision in this Order on its own or on application by any carrier for good cause shown.

Issued in Washington, DC, on May 20, 2025.
Christopher J. Rocheleau,
Acting Administrator, Federal Aviation Administration.

[FR Doc. 2025-09376 Filed 5-21-25; 8:45 am]

BILLING CODE 4910-13-P